FEDERAL COMMUNICATIONS COMMISSION

Sunshine Act Meeting; Open Commission Meeting; Tuesday, November 4, 2008

October 28, 2008.

The Federal Communications Commission will hold an Open Meeting on the subjects listed below on Tuesday, November 4, 2008, which is scheduled to commence at 11 a.m. in Room TW-C305, at 445 12th Street, SW., Washington, DC. With respect only to item #5 listed below, the Commission is waiving the sunshine period prohibition contained in section 1.1203 of the Commission's rules, 47 CFR 1.1203, until 5:30 pm, Friday, October 31, 2008. Thus, presentations with respect to item #5 will be permitted until that time.

Item No. | Bureau | Subject
1 | Wireline Competition | Title: High-cost Universal Service Support (WC Docket No. 05-337); Federal-State Joint Board on Universal Service (CC Docket No. 96-45); Lifeline and Link Up (WC Docket No. 03-109); Universal Service Contribution Methodology (WC Docket No. 06-122); Telecommunications Relay Services and Speech-to-Speech Services for Individuals with Hearing and Speech Disabilities (CG Docket No. 03-123); Implementation of the Local Competition Provisions in the Telecommunications Act of 1996 (CC Docket No. 96-98); Developing a Unified Intercarrier Compensation Regime (CC Docket No. 01-92); Intercarrier Compensation for ISP-Bound Traffic (CC Docket No. 99-68); and IP-Enabled Services (WC Docket No. 04-36).
|  | Summary: The Commission will consider a Report and Order, Order on Remand, and Further Notice of Proposed Rulemaking addressing the comprehensive reform of intercarrier compensation and universal service.
2 | Wireless Telecommunications | Title: Applications of Union Telephone Company; Cellco Partnership d/b/a Verizon Wireless For 700 MHz Band Licenses, Auction No. 73.
|  | Summary: The Commission will consider a Memorandum Opinion and Order addressing the Auction 73 applications of Cellco Partnership d/b/a Verizon Wireless and Union Telephone Company, and a Petition to Condition Grant filed by Google Inc. and Google Airwaves Inc.
3 | Wireless Telecommunications | Title: Applications of Cellco Partnership d/b/a Verizon Wireless and Atlantis Holdings LLC (WT Docket No. 08-95); For Consent to Transfer Control of Licenses, Authorizations, and Spectrum Manager and DeFacto Transfer Leasing Arrangements; and Petition for Declaratory Ruling that the Transaction is Consistent with Section 310(b)(4) of the Communications Act
|  | Summary: The Commission will consider a Memorandum Opinion and Order and Declaratory Ruling addressing applications for transfer of licenses, authorizations, and spectrum leasing arrangements filed by Verizon Wireless and Atlantis Holdings.
4 | Wireless Telecommunications | Title: Sprint Nextel Corporation and Clearwire Corporation; Applications For Consent to Transfer Control of Licenses and Authorizations (WT Docket No. 08-94)
|  | Summary: The Commission will consider a Memorandum Opinion and Order addressing applications for transfer of control of licenses, authorizations, and spectrum leases filed by Sprint Nextel Corporation and Clearwire Corporation and their subsidiaries.
5 | Office of Engineering and Technology | Title: Unlicensed Operation in the TV Broadcast Bands (ET Docket No. 04-186); and Additional Spectrum for Unlicensed Devices Below 900 MHz and in the 3 GHz Band (ET Docket No. 02-380)
|  | Summary: The Commission will consider a Second Report and Order and Memorandum Opinion and Order to consider rules for operation of low power devices in the broadcast television spectrum.
6 | Media | Title: Digital Television Distributed Transmission System Technologies (MB Docket No. 05-312)
|  | Summary: The Commission will consider a Report and Order to adopt rules for the use of distributed transmission system (“DTS”) technologies in the digital television (“DTV”) service.
7 | Consumer & Governmental Affairs | Title: Closed Captioning of Video Programming (CG Docket 05-231); and Closed Captioning Requirements for Digital Television Receivers (ET Docket No. 99-254)
|  | Summary: The Commission will consider a Declaratory Ruling and Order concerning the application of the Commission's closed captioning requirements to digital programming, as well as measures regarding the handling and addressing of consumer concerns and complaints regarding closed captioning.

The meeting site is fully accessible to people using wheelchairs or other mobility aids. Sign language interpreters, open captioning, and assistive listening devices will be provided on site. Other reasonable accommodations for people with disabilities are available upon request.

Include a description of the accommodation you will need. Also include a way we can contact you if we need more information. Last minute requests will be accepted, but may be impossible to fill. Send an e-mail to: fcc504@fcc.gov or call the Consumer & Governmental Affairs Bureau at 202-418-0530 (voice), 202-418-0432 (tty).

Additional information concerning this meeting may be obtained from Audrey Spivack or David Fiske, Office of Media Relations, (202) 418-0500; TTY 1-888-835-5322. Audio/Video coverage of the meeting will be broadcast live with open captioning over the Internet from the FCC's Audio/Video Events Web page at http://www.fcc.gov/realaudio.

For a fee this meeting can be viewed live over George Mason University's Capitol Connection. The Capitol Connection also will carry the meeting live via the Internet. To purchase these services call (703) 993-3100 or go to http://www.capitolconnection.gmu.edu.

Copies of materials adopted at this meeting can be purchased from the FCC's duplicating contractor, Best Copy and Printing, Inc. (202) 488-5300; Fax (202) 488-5563; TTY (202) 488-5562. These copies are available in paper format and alternative media, including large print/type; digital disk; and audio and video tape. Best Copy and Printing, Inc. may be reached by e-mail at FCC@BCPIWEB.com.

Federal Communications Commission.
William F. Caton,
Deputy Secretary.

[FR Doc. E8-26143 Filed 10-29-08; 4:15 pm]

BILLING CODE 6712-01-P